DEPARTMENT OF COMMERCE

National Oceanic and Atmospheric Administration

[I.D. 020602C]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Monkfish Oversight Committee and Scallop Oversight Committee in February and March, 2002 to consider actions affecting New England fisheries in the exclusive economic zone (EEZ). Recommendations from these groups will be brought to the full Council for formal consideration and action, if appropriate.

DATES: The meetings will be held on February 28, 2002 and March 4 and 5, 2002. See SUPPLEMENTARY INFORMATION for specific dates and times.

ADDRESSES: The meetings will be held at the Holiday Inn by the Bay, 88 Spring Street, Portland, ME 04101; telephone: (207) 775-2311.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Thursday, February 28, 2002, 10 a.m.—Monkfish Oversight Committee Meeting.

The committee will finalize recommendations to the Council on goals and objectives for Amendment 2 to the Monkfish Fishery Management Plan (FMP) for approval in March. The committee will also begin to outline alternative management strategies to achieve those goals and objectives.

Monday, March 4, 2002, 10 a.m. and Tuesday, March 5, 2002, 9:30 a.m.—Scallop Oversight Committee Meeting.

The Oversight Committee will continue development of management alternatives for Draft Amendment 10 to the Sea Scallop FMP. The committee will evaluate habitat and bycatch technical advice from the joint meeting of the Habitat Technical Team, the Groundfish Plan Development Team (PDT) and the Scallop PDT. Recommendations will be developed for draft alternatives in Scallop FMP Amendment 10 to minimize, to the extent practicable, bycatch and habitat impacts from scallop fishing. Other issues and measures associated with Amendment 10 may also be developed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 7, 2002.
Matteo Milazzo,
Acting Director, Office of Sustainable Fisheries, National Marine Fisheries Service.

[FR Doc. 02-3381 Filed 2-11-02; 8:45 am]

BILLING CODE 3510-22-S